DEPARTMENT OF COMMERCE

National Oceanic and Atmospheric Administration

RIN 0648-XR39

Endangered and Threatened Species; Recovery Plans

AGENCY: National Marine Fisheries Service (NMFS), National Oceanic and Atmospheric Administration (NOAA), Commerce.

ACTION: Extension of public comment period.

SUMMARY: On October 7, 2009, we, NMFS, announced the release of the Draft Central Valley Salmon and Steelhead Recovery Plan (Draft Plan) for public review and comment. The Draft Plan addresses the Sacramento River winter-run Chinook salmon (Oncorhynchus tshawytscha) Evolutionarily Significant Unit (ESU), the Central Valley spring-run Chinook salmon (O. tshawytscha) ESU, and the Distinct Population Segment (DPS) of Central Valley Steelhead (Oncorhynchus mykiss). NMFS is soliciting review and comment from the public and all interested parties on the Draft Plan. As part of that proposal, we provided a 60-day comment period, ending on December 5, 2009. We have received requests for an extension of the public comment period. In response to these requests, we are extending the comment period for the proposed action an additional 60 days.

DATES: Information and comments on the subject action must be received by February 3, 2009.

ADDRESSES: Please send written comments to Brian Ellrott, National Marine Fisheries Service, 650 Capitol Mall, Suite 8-300, Sacramento, CA 95816. Comments may also be submitted by e-mail to: CentralValleyPlan.SWR@noaa.gov. Include in the subject line of the e-mail comment the following identifier: Comments on Central Valley Salmon and Steelhead Draft Plan. Comments may be submitted via facsimile (fax) to (916) 930-3629.

Persons wishing to review the Draft Plan can obtain an electronic copy (i.e., CD-ROM) from Aimee Diefenbach by calling (916) 930-3600 or by e-mailing a request to aimee.diefenbach@noaa.gov with the subject line “CD-ROM Request for Central Valley Salmon and Steelhead Recovery Draft Plan.” Electronic copies of the Draft Plan are also available on-line on the NMFS website http://swr.nmfs.noaa.gov/recovery/cent-val.htm.

FOR FURTHER INFORMATION CONTACT: Howard Brown, NMFS Sacramento River Basin Branch Chief at (916) 930-3608 or Brian Ellrott at (916) 930-3612.

SUPPLEMENTARY INFORMATION:

Background

On October 7, 2009, we published a Notice of Availability of the Draft Central Valley Salmon and Steelhead Recovery Plan (Draft Plan) for public review and comment (74 FR 51553). The Draft Plan addresses the Sacramento River winter-run Chinook salmon (Oncorhynchus tshawytscha) Evolutionarily Significant Unit (ESU), the Central Valley spring-run Chinook salmon (O. tshawytscha) ESU, and the Distinct Population Segment (DPS) of Central Valley Steelhead (Oncorhynchus mykiss). NMFS is soliciting review and comment from the public and all interested parties on the Draft Plan. As part of that proposal, we provided a 60-day comment period, ending on December 5, 2009. Public meetings were held in Chico, CA and Sacramento, CA on October 20 and 21, respectively. We have received requests for an extension of the public comment period. In response to these requests, we are extending the comment period for the proposed action an additional 60 days. Information and comments must be received by February 3, 2009.

Authority: 16 U.S.C. 1531 et seq.

Dated: November 18, 2009.
Angela Somma,
Chief, Endangered Species Division, Office of Protected Resources, National Marine Fisheries Service.

[FR Doc. E9-28174 Filed 11-23-09; 8:45 am]

BILLING CODE 3510-22-S